NUCLEAR REGULATORY COMMISSION

[Docket Nos. 50-275-LR and 50-323-LR; ASLBP No. 10-900-01-LR-BD01]

Pacific Gas & Electric Company; (Diablo Canyon Nuclear Power Plant, Units 1 and 2); Notice of Atomic Safety and Licensing Board Reconstitution

Pursuant to 10 CFR 2.313(c) and 2.321(b), the Atomic Safety and Licensing Board (Board) in the above-captioned Diablo Canyon Nuclear Power Plant, Units 1and 2 license renewal proceeding is hereby reconstituted by appointing Administrative Judge Gary S. Arnold to serve on the Board in place of Administrative Judge Paul B. Abramson.

All correspondence, documents, and other materials shall continue to be filed in accordance with the NRC E-Filing rule. See 10 CFR 2.302 et seq.

Issued at Rockville, Maryland, this 4th day of November 2014.
E. Roy Hawkens,
Chief Administrative Judge, Atomic Safety and Licensing Board Panel.

[FR Doc. 2014-26646 Filed 11-7-14; 8:45 am]

BILLING CODE 7590-01-P